DEPARTMENT OF ENERGY

Federal Energy Regulatory Commission

[Docket No. CP00-441-000]

Tennessee Gas Pipeline Company; Notice of Request Under Blanket Authorization

August 22, 2000.

Take notice that on August 16, 2000, Tennessee Gas Pipeline Company (Tennessee), a Delaware Corporation, Post Office Box 2511, Houston, Texas 77252-2511, filed a request with the Commission in Docket No. CP00-441-000, pursuant to Section 157.205 and 157.208(b)(2) of the Commission's Regulations under the Natural Gas Act (NGA) for authorization to construct, own, install and operate an offshore supply lateral, the Texas Deepwater Link Project, consisting of approximately 17.8 miles of 20-inch diameter pipeline to connect Tennessee's existing offshore system to the High Island Offshore System, L.L.C. (HIOS) authorized in blanket certificate issued in Docket No. CP82-413-000, all as more fully set forth in the request on file with the Commission and open to public inspection. This filing may be viewed on the web at http://www.ferc.fed.us/online/rims.htm (call 202-208-2222 for assistance).

Tennessee proposes to construct, own, install and operate facilities necessary to receive and transport natural gas produced in the offshore Gulf of Mexico. The lateral line would originate from Tennessee's Line 507K-200 in West Cameron Block 180 offshore Louisiana and extend to an interconnection with the HIOS system at HIOS in West Cameron Block 167. The facilities would have the capability to transport 700 MMcf of natural gas per day at a maximum allowable operating pressure of 1,440 psig. Tennessee estimates that the cost of constructing the subject facilities would be $14,485,000.

Any questions regarding the application may be directed to Wendell B. Hunt, Attorney at (713) 420-5628 or Thomas G. Joyce, Certificates Manager at (713) 420-2459.

Any person or the Commission's staff may, within 45 days after the Commission has issued this notice, file pursuant to Rule 214 of the Commission's Procedural Rules (18 CFR 385.214) a motion to intervene or notice of intervention and pursuant to Section 157.205 of the Regulations under the NGA (18 CFR 157.205) a protest to the request. If no protest is filed within the allowed time, the proposed activity shall be deemed to be authorized effective the day after the time allowed for filing a protest. If a protest is filed and not withdrawn within 30 days after the time allowed for filing a protest, the instant request shall be treated as an application for authorization pursuant to Section 7 of the NGA.

Linwood A. Watson, Jr.,
Acting Secretary.

[FR Doc. 00-21851 Filed 8-25-00; 8:45 am]

BILLING CODE 6717-01-M